DEPARTMENT OF COMMERCE

National Oceanic and Atmospheric Administration

[I.D. 050302A]

Endangered Species; Permit No. 1351

AGENCY: National Marine Fisheries Service (NMFS), National Oceanic and Atmospheric Administration (NOAA), Commerce.

ACTION: Issuance of permit.

SUMMARY: Notice is hereby given that Dr. Frank A. Chapman, Department of Fisheries and Aquatic Sciences, University of Florida, University of Florida, 7922 N.W. 71 St., Gainesville, Florida 32653, has been issued a permit to take Shortnose Sturgeon (Acipenser brevirostrum) for purposes of scientific research and enhancement.

ADDRESSES: The permit and related documents are available for review upon written request or by appointment in the following office(s):

Permits, Conservation and Education Division, Office of Protected Resources, NMFS, 1315 East-West Highway, Room 13705, Silver Spring, MD 20910; phone (301)713-2289; fax (301)713-0376.

FOR FURTHER INFORMATION CONTACT: Lillian Becker, (301)713-2289).

SUPPLEMENTARY INFORMATION: On September 17, 2001, notice was published in the Federal Register (66 FR 48031) that a request for a scientific research/enhancement permit to take shortnose sturgeon had been submitted by the above-named individual. The requested permit has been issued under the authority of the Endangered Species Act of 1973, as amended (ESA; 16 U.S.C. 1531 et seq.) and the regulations governing the taking, importing, and exporting of endangered and threatened species (50 CFR parts 222-226).

The Holder was issued a four year permit [#1351] to identify the physical, chemical, and biological parameters necessary for optimal survival and growth of shortnose sturgeon. The research activities proposed in this investigation address the goals and objectives of the shortnose sturgeon recovery plan.

Issuance of this permit, as required by the ESA, was based on a finding that such permit (1) was applied for in good faith, (2) will not operate to the disadvantage of the endangered species which is the subject of this permit, and (3) is consistent with the purposes and policies set forth in section 2 of the ESA.

Dated: May 8, 2002.
Eugene T. Nitta,
Acting Chief, Permits, Conservation and Education Division, Office of Protected Resources, National Marine Fisheries Service.

[FR Doc. 02-12034 Filed 5-13-02; 8:45 am]

BILLING CODE 3510-22-S